DEPARTMENT OF ENERGY

Federal Energy Regulatory Commission

[Docket No. PR05-8-000]

Northwest Natural Gas Company; Notice of Technical Conference

May 13, 2005.

Take notice that a technical conference will be held on Tuesday, May 24, 2005 at 1 p.m., Eastern Time, in a room to be designated at the Federal Energy Regulatory Commission, 888 First Street NE., Washington, DC 20426.

The purpose of the conference is to address Northwest Natural Gas Company's (Northwest) section 311 petition for rate approval filed on January 18, 2005. Northwest should be prepared to discuss return on equity and operating statements issues.

FERC conferences are accessible under section 508 of the Rehabilitation Act of 1973. For accessibility accommodations please send an e-mail to accessibility@ferc.gov or call toll free (866) 208-3372 (voice) or 202-208-1659 (TTY), or send a FAX to 202-208-2106 with the required accommodations.

All interested parties and staff are permitted to attend. For further information please contact Aileen Roder at (202) 502-6022 or e-mail aileen.roder@ferc.gov.

Magalie R. Salas,
Secretary.

[FR Doc. E5-2572 Filed 5-20-05; 8:45 am]

BILLING CODE 6717-01-P